DEPARTMENT OF ENERGY

Federal Energy Regulatory Commission

[Docket No. PR04-6-000]

Cranberry Pipeline Corporation; Notice of Petition for Rate Approval

January 13, 2004.

Take notice that on December 16, 2003, Cranberry Pipeline Corporation (Cranberry) filed, pursuant to section 184.123(b)(2) of the Commission's Regulations, a petition for rate approval requesting that the Commission approve: (1) Rates applicable to firm and interruptible transportation service rendered on its system in the State of West Virginia; (2) firm and interruptible storage rates for both Cranberry's X-1 and Raleigh Storage Fields; and (3) a $50 low flow meter fee. These rates will be applicable to the interruptible transportation and firm and interruptible storage of natural gas under section 311(a)(2) of the Natural Gas Policy Act of 1978 (NGPA), as well as firm and interruptible transportation and storage in intrastate commerce in the State of West Virginia.

Any person desiring to participate in this rate proceeding must file a motion to intervene or protest with the Federal Energy Regulatory Commission, 888 First Street, NE., Washington DC 20426, in accordance with sections 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the eLibrary link. Enter the docket number excluding the last three digits I the docket number field to access the document. For Assistant, call (202) 502-8222 or for TTY, (202) 502-8659. Comments, protests and interventions may be filed electronically via the Internet in lieu of paper. The Commission strongly encourages electronic filings. See, 18 CFR 385.2001(1)(iii) and the instructions on the Commission's Web site under the e-Filing link.

Comment Date: January 29, 2004.

Magalie R. Salas,
Secretary.

[FR Doc. E4-95 Filed 1-20-04; 8:45 am]

BILLING CODE 6717-01-P